DEPARTMENT OF COMMERCE

International Trade Administration

[A-583-837]

Polyethylene Terephthalate Film, Sheet, and Strip From Taiwan: Final Results of Antidumping Duty Administrative Review and Final Determination of No Shipments; 2017-2018

AGENCY: Enforcement and Compliance, International Trade Administration, Department of Commerce.

SUMMARY: The Department of Commerce (Commerce) continues to find that Nan Ya Plastics Company (Nan Ya), a producer/exporter of polyethylene terephthalate film, sheet, and strip (PET Film) from Taiwan, did not sell subject merchandise at less than normal value during the period July 1, 2019 through June 30, 2018 (POR). In addition, we continue to find that Shinkong Materials Technology Corporation (SMTC) had no shipments of subject merchandise during the POR.

DATES: Applicable January 9, 2020.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On September 12, 2019, Commerce published the Preliminary Results for this administrative review.¹ We postponed the briefing schedule on October 10, 2019.² We issued a supplemental questionnaire to Nan Ya.³ On November 13, 2019, Nan Ya submitted its response to the supplemental questionnaire.⁴ We invited interested parties to comment on the Preliminary Results.⁵ We have not received any comments or requests for a hearing from any party. Commerce conducted this administrative review in accordance with section 751(a)(1)(B) of the Tariff Act of 1930, as amended (the Act).

¹ See Polyethylene Terephthalate Film, Sheet, and Strip from Taiwan: Preliminary Results of Antidumping Duty Administrative Review and Preliminary Determination of No Shipments; 2017-2018, 84 FR 48112 (September 12, 2018) (Preliminary Results), and accompanying Preliminary Decision Memorandum.

² See Memorandum, “Polyethylene Terephthalate Film, Sheet, and Strip (PET Film) from Taiwan—Briefing Schedule,” dated October 10, 2019.

³ See Commerce's Letter, “2017-2018 Administrative Review of the Antidumping Duty Order on Polyethylene Terephthalate Film, Sheet and Strip (PET Film): Second Supplemental Questionnaire,” dated November 6, 2019.

⁴ See Nan Ya's Letter, “Polyethylene Terephthalate (PET) Film from Taiwan,” dated November 13, 2019 (Nan Ya's BCSQR).

⁵ See Memorandum, “Polyethylene Terephthalate Film, Sheet, and Strip (PET Film) from Taiwan—Briefing Schedule,” dated November 19, 2019.

Scope of the Order

The products covered by the antidumping duty order are all gauges of raw, pretreated, or primed PET film, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (HTSUS) under item number 3920.62.00.90. HTSUS subheadings are provided for convenience and customs purposes. The written description of the scope of the antidumping duty order is dispositive.

Final Determination of No Shipments

Based on our analysis of U.S. Customs and Border Protection (CBP) information and information provided by SMTC and its affiliate Shinkong Synthetic Fibers Corporation (SSFC), we continue to determine that SMTC and SSFC had no shipments of the subject merchandise during the POR.

Final Results of Review

As noted above, Commerce received no comments concerning the Preliminary Results. We reviewed the information submitted in Nan Ya's BCSQR,⁶ and find no reason to make changes to the Preliminary Results. As there are no changes from, or comments upon, the Preliminary Results, Commerce finds that there is no reason to modify its analysis and calculations.⁷ Thus, we continue to find that sales of subject merchandise by Nan Ya were not made at less than normal value during the POR. For further details of the issues addressed in this proceeding, see the Preliminary Results and the accompanying Preliminary Decision Memorandum.

⁶ See Nan Ya's BCSQR.

⁷ Consequently, we have not issued an Issues and Decision Memorandum to accompany these final results.

The final weighted-average dumping margin for the period July 1, 2017 through June 30, 2018, for Nan Ya is as follows:

Manufacturer/exporter | Weighted- average dumping margin (percent)
Nan Ya Plastics Corporation | 0.00

Assessment Rates

We have not calculated any assessment rates in this administrative review. For Nan Ya, we calculated a zero margin in the final results of this review. Therefore, in accordance with 19 CFR 351.212 we will instruct CBP to liquidate the appropriate entries without regard to dumping duties. For SMTC/SSFC, we determined that there were no shipments of the subject merchandise. Therefore, pursuant to Commerce's assessment practice, we will instruct CBP to liquidate any such entries at the all-others rate if there is no rate for the intermediate company(ies) involved in the transaction. Commerce intends to issue appropriate assessment instructions to CBP after the publication date of the final results of this administrative review.

Cash Deposit Requirements

The following cash deposit requirements will be effective upon publication of the final results of this administrative review for all shipments of the subject merchandise entered, or withdrawn from warehouse, for consumption on or after the publication date, as provided for by section 751(a)(2)(C) of the Act: (1) The cash deposit rate for Nan Ya will be zero, the rate established in the final results of this review; (2) for previously reviewed or investigated companies not covered in this review, the cash deposit rate will continue to be the company-specific rate published for the most recent period; (3) if the exporter is not a firm covered in this or any previous review or in the original less-than-fair-value (LTFV) investigation but the manufacturer is, then the cash-deposit rate will be the rate established for the most recent period for the manufacturer of the merchandise; and (4) if neither the exporter nor the manufacturer is a firm covered in this or any previous review or the investigation, the cash-deposit rate will continue to be the all-others rate of 2.40 percent, which is the all-others rate established by Commerce in the LTFV investigation.⁸ These cash deposit requirements, when imposed, shall remain in effect until further notice.

⁸ See Notice of Amended Final Antidumping Duty Determination of Sales at Less Than Fair Value and Antidumping Duty Order: Polyethylene Terephthalate Film, Sheet, and Strip (PET Film) from Taiwan, 67 FR 44175 (July 15, 2002).

Notification of Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act and 19 CFR 351.213(b)(5).

Dated: January 3, 2020.
Christian Marsh,
Deputy Assistant Secretary for Enforcement and Compliance.

[FR Doc. 2020-00147 Filed 1-8-20; 8:45 am]

BILLING CODE 3510-DS-P